NATIONAL SCIENCE FOUNDATION

Sunshine Act Meetings; National Science Board

The National Science Board (NSB), pursuant to National Science Foundation (NSF) regulations (45 CFR part 614), the National Science Foundation Act, as amended, (42 U.S.C. 1862n-5), and the Government in the Sunshine Act (5 U.S.C. 552b), hereby gives notice of a cancellation of one session and the addition of an agenda item in a plenary session during the National Science Board meetings on February 2-3, 2016, as shown below. The original notice appeared in the Federal Register on January 29, 2016 at 81 FR 70259.

Cancelled Session:

Plenary Board Meeting

Open Session: 11:30-11:45 a.m.

NSB Chair's remarks

Guest speaker—Senator Gary Peters

NSB Chair's closing remarks

Amended Agenda:

Plenary Board Meeting

Open Session: 1:00-1:30 p.m.

NSB Chair's remarks

NSF Director's remarks

Approval of open plenary minutes for November 2015

NEON update from the Chair of the ad hoc task force on NEON Performance and Plans

Open committee reports

Possible Board Vote on SEI's Recommendations, including draft Companion Brief and sense of the Board Statement on the Value of Higher Education [ADDED]

NSB Chair's closing remarks

UPDATES: Please refer to the National Science Board Web site for additional information. Meeting information and schedule updates (time, place, subject matter or status of meeting) may be found at http://www.nsf.gov/nsb/meetings/notices.jsp.

AGENCY CONTACT: Ron Campbell, jrcampbe@nsf.gov, 703-292-7000.

Kyscha Slater-Williams,
Program Specialist, National Science Board.

[FR Doc. 2016-02015 Filed 1-29-16; 4:15 pm]

BILLING CODE 7555-01-P